DEPARTMENT OF COMMERCE

National Oceanic and Atmospheric Administration

[I.D. 103000A]

Atlantic Sea Scallop Fishery Management Plan Framework Adjustment 14

AGENCY: National Oceanic and Atmospheric Administration (NOAA).

ACTION: Proposed collection; Comment request.

SUMMARY: The Department of Commerce, as part of its continuing effort to reduce paperwork and respondent burden, invites the general public and other Federal agencies to take this opportunity to comment on proposed and/or continuing information collections, as required by the Paperwork Reduction Act of 1995, Public Law 104-13 (44 U.S.C. 3506(c)(2)(A)).

DATES: Written comments must be submitted on or before January 2, 2001.

ADDRESSES: Direct all written comments to Madeleine Clayton, Departmental Forms Clearance Officer, Department of Commerce, Room 6086, 14th and Constitution Avenue NW, Washington DC 20230 (or via Internet at MClayton@doc.gov).

FOR FURTHER INFORMATION CONTACT: Requests for additional information or copies of the information collection instrument(s) and instructions should be directed to Paul H. Jones, Fishery Policy Analyst, NMFS, 1 Blackburn Drive, Gloucester, MA 01930, 978-281-9273, fax 978-281-9135, e-mail paul.h.jones@noaa.gov.

SUPPLEMENTARY INFORMATION:

I. Abstract

The regulations implementing Framework Adjustments 11 and 13 to the Atlantic Sea Scallop Fishery Management Plan (FMP) established the Georges Bank Sea Scallop Exemption Program (Exemption Program), which provided vessels permitted in the limited access scallop program short-term access to the groundfish closed areas on Georges Bank. The management measures and provisions of Framework Adjustment 14 to the FMP propose a similar area access program for the scallop Mid-Atlantic closed areas (Hudson Canyon South and Virginia Beach) as well as an adjustment to the limited access scallop days-at-sea (DAS) allocations. Following are measures that may be included in this access program: (1) Access allowed by all scallop limited access and open access vessels (dredge, trawl, and General Category vessels); (2) establishment of a scallop total allowable catch (TAC) for each of the reopened areas; (3) an allowance of five trips per vessel; (4) a possession limit of 15,000 lb (6,804 kg) of meats per trip for limited access vessels; (5) an automatic deduction of 10 DAS for each limited access trip; (6) a season of April 1, 2001, through February 28, 2002, with the provision that the Administrator, Northeast Region, NMFS, may allow additional trips for those vessels that made a trip prior to September 1, 2001; (7) an emergency landing provision, whereby limited access vessels would not be charged the full 10 DAS, provided the vessel has experienced an emergency condition that forces the vessel to come into port earlier than anticipated; (8) a minimum mesh twine-top of 10 inches (25 cm) for scallop dredge vessels; (9) a Vessel Monitoring System (VMS) requirement, with double-polling for the duration of the access program; (10) a TAC set-aside to allow cooperative research; (11) a TAC set-aside to provide for observer coverage; and (12) a requirement that General Category vessels obtain a letter of authorization to fish in the scallop Mid-Atlantic closed areas. Proposed Framework 14 also may propose additional closed areas to protect concentrations of small scallops. Options for the closed areas include areas in both the Mid-Atlantic and Georges Bank.

The VMS was considered to be one of the major tools for monitoring and enforcing the regulations pertaining to the exemption programs implemented under Framework Adjustments 11 and 13. Vessels participating in these Exemption Programs were required to use a VMS unit for the purposes of monitoring DAS under the scallop regulations. This submission requests comments on similar collection of information requirements, as well as new requirements, for proposed Framework 14. For limited access scallop vessels, the Office of Management and Budget (OMB) gave Paperwork Reduction Act clearance for many of these reporting requirements. However, for General Category scallop vessels electing to participate in the proposed Mid-Atlantic Exemption Program, Framework Adjustment 14 proposes the following collection of information requirements: (1) Monthly reporting of intention to fish in the Exemption Program through the VMS e-mail; (2) daily reporting of scallops kept, Fishing Vessel Trip Report log page, and, for observed trips, scallops kept and yellowtail flounder caught on observed tows through the VMS e-mail messaging system; (3) installation of a VMS unit and documentation of installation of a VMS unit; (4) notice requirements for observer deployment; (5) declaration into the Exemption Program through the VMS prior to leaving the dock; (6) an increase in the polling frequency of the VMS from once every hour to once every thirty minutes; and (7) obtain a letter of authorization to fish in the scallop Mid-Atlantic closed areas. An additional collection of information requirement for limited access scallop vessels in the Exemption Program is: an emergency declaration through the VMS of a Exemption Program trip termination when fishing in the Mid-Atlantic closed areas.

II. Method of Collection

A combination of reporting methods will be involved, including forms, e-mail communications, phone calls, and automatic electronic transmissions.

III. Data

OMB Number: None.

Form Number: None.

Type of Review: Regular submission.

Affected Public: Business and other for-profit organizations.

Estimated Number of Respondents: 459.

Estimated Time Per Response: 2 minutes for a monthly e-mail notification of intent to fish in the Exemption Program; 10 minutes for an e-mail messaging of catch; 1 hour for the installation of a VMS unit; 2 minutes for a notification for purposes of observer deployment; 5 minutes for submitting proof of VMS installation; 2 minutes for declaring into the Exemption Program through the VMS prior to leaving the dock; 5 seconds for each automated VMS report; 2 minutes for a emergency notification to terminate Exemption Program trip; and 2 minutes to obtain a letter of authorization to fish in the scallop Mid-Atlantic closed areas.

Estimated Total Annual Burden Hours: 683.

Estimated Total Annual Cost to Public: $3,120.

IV. Request for Comments

Comments are invited on: (a) whether the proposed collection of information is necessary for the proper performance of the functions of the agency, including whether the information shall have practical utility; (b) the accuracy of the agency’s estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: October 26, 2000.
Madeleine Clayton,
Departmental Forms Clearance Officer, Office of Chief Information Officer.

[FR Doc. 00-28154 Filed 11-1-00; 8:45 am]

BILLING CODE: 3510-22-S